DEPARTMENT OF DEFENSE

Department of the Army; Corps of Engineers

Inland Waterways Users Board

AGENCY: Department of the Army, U.S. Army Corps of Engineers, DoD.

ACTION: Notice of open meeting.

SUMMARY: In Accordance with 10(a)(2) of the Federal Advisory Committee Act (Pub. L. 92-463), announcement is made of the forthcoming meeting.

Name of Committee: Inland Waterways Users Board (Board).

Date: January 14, 2014.

Location: Meeting at the Westin New Orleans Canal Place Hotel, 100 Rue Iberville, New Orleans, Louisiana 70130, at 504-566-7006, or westinneworleanscanalplace.com.

Time: Registration will begin at 8:30 a.m. and the meeting is scheduled to adjourn at approximately 1:00 p.m.

Agenda: The agenda will include the status of funding for inland navigation projects and studies, the status of the Inland Waterways Trust Fund, funding for Fiscal Year (FY) 2014, update of proposed water resources-related authorization bills, and the status of the Olmsted Locks and Dam Project.

FOR FURTHER INFORMATION CONTACT: Mr. Mark R. Pointon, Institute for Water Resources, U.S. Army Corps of Engineers, CEIWR-GM, 7701 Telegraph Road, Casey Building, Alexandria, VA 22315-3868; Ph: 703-428-6438 or Ms. Mindy M. Simmons, Headquarters, U.S. Army Corps of Engineers, CECW-IP, 441 G Street NW., Washington, DC 20314-1000; Ph: 202-761-1934.

SUPPLEMENTARY INFORMATION: The meeting is open to the public. Any interested person may attend, appear before, or file statements with the committee at the time and in the manner permitted by the committee.

Brenda S. Bowen,
Army Federal Register Liaison Officer.

[FR Doc. 2013-28785 Filed 11-29-13; 8:45 am]

BILLING CODE 3720-58-P